DEPARTMENT OF LABOR

Office of the Secretary; Submission for OMB Review; Comment Request

ACTION: Submission for OMB Review; Comment Request.

SUMMARY: The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Linda Watts Thomas on 202-693-4223 (this is not a toll-free number) and e-mail mail to: DOL_PRA_PUBLIC@dol.gov.

Interested parties are encouraged to send written comments to the Office of Information and Regulatory Affairs, Attn: OMB Desk Officer for the Department of Labor—Mine Safety and Health Administration (MSHA), Office of Management and Budget, 725 17th St., NW., Room 10235, Washington, DC 20503, Telephone: 202-395-4816/Fax 202-395-5806 (these are not toll-free numbers), e-mail: OIRA_submission@omb.eop.gov within 30 days from the date of this publication in the Federal Register. In order to ensure the appropriate consideration, comments should reference the applicable OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Mine Safety and Health Administration.

Type of Review: Revision of a currently approved collection.

Title: Certificate of Electrical Training.

OMB Control Number: 1219-0001.

Frequency: Mandatory.

Form Number: MSHA Form 5000-1.

Affected Public: Business or other for-profit, State, Local, or Tribal Governments.

Cost to Federal Government: $54,045.

Total Burden Respondents: 17,960.

Total Number of Responses: 2,796.

Total Burden Hours: 890.

Total Hour Burden Cost (operating/maintaining): $29,483.

Description: MSHA Form 5000-1, “Certificate of Electrical Training,” is required to be used by instructors for reporting to MSHA the qualifications of those persons who have satisfactorily completed a coal mine electrical training program. Based on the information submitted on Form 5000-1, MSHA issues certification cards that identify these individuals as qualified to perform certain tasks at the mine. For additional information, see related notice published in the Federal Register on February 4, 2010 (Vol. 75, page 5808).

Dated:July 8, 2010.
Linda Watts Thomas,
Acting Departmental Clearance Officer.

[FR Doc. 2010-18349 Filed 7-26-10; 8:45 am]

BILLING CODE 4510-79-P